DEPARTMENT OF LABOR

Employment and Training Administration

Job Corps Center Proposed for Closure: Comments Requested

AGENCY: Office of Job Corps, Employment and Training Administration (ETA), Labor.

ACTION: Notice.

SUMMARY: The Employment and Training Administration (ETA) of the U.S. Department of Labor (the Department or DOL) issues this notice to propose the closure of the Homestead Job Corps Center (Homestead) in Homestead, Florida, based on an evaluation of the center. This notice seeks public comment on the proposal to close Homestead.

DATES: To be ensured consideration, comments must be submitted in writing on or before September 1, 2017.

ADDRESSES: You may submit comments, identified by Docket Number ETA-2016-0003, by only one of the following methods:

Federal e-Rulemaking Portal: http://www.regulations.gov. Follow the Web site instructions for submitting comments.

Mail and hand delivery/courier: Submit comments to Lenita Jacobs-Simmons, National Director, Office of Job Corps (OJC), U.S. Department of Labor, Employment and Training Administration, 200 Constitution Avenue NW., Room N-4459, Washington, DC 20210. Due to security-related concerns, there may be a significant delay in the receipt of submissions by United States Mail. You must take this into consideration when preparing to meet the deadline for submitting comments. The Department will post all comments received on http://www.regulations.gov without making any changes to the comments or redacting any information, including any personal information provided. The http://www.regulations.gov Web site is the Federal e-rulemaking portal and all comments posted there are available and accessible to the public. The Department recommends that commenters not include personal information such as Social Security Numbers, personal addresses, telephone numbers, and email addresses in their comments that they do not wish to be made public, as such submitted information will be available to the public via the http://www.regulations.gov Web site. Comments submitted through http://www.regulations.gov will not include the email address of the commenter unless the commenter chooses to include that information as part of his or her comment. It is the responsibility of the commenter to safeguard personal information.

Instructions: All submissions received should include the Docket Number for the notice: Docket Number ETA-2016-0003. Please submit your comments by only one method. Again, please note that due to security concerns, postal mail delivery in Washington, DC may be delayed. Therefore, the Department encourages the public to submit comments on http://www.regulations.gov.

Docket: All comments on the selected Job Corps Center for closure will be available on the http://www.regulations.gov Web site. The Department also will make all of the comments it receives available for public inspection by appointment during normal business hours at the above address. If you need assistance to review the comments, the Department will provide appropriate aids such as readers or print magnifiers. The Department will make copies of this methodology and the selected Job Corps center for closure available, upon request, in large print and electronic file on computer disk. To schedule an appointment to review the comments and/or obtain the notice in an alternative format, contact the Office of Job Corps at (202) 693-3000 (this is not a toll-free number). You may also contact this office at the address listed below.

FOR FURTHER INFORMATION CONTACT: Lenita Jacobs-Simmons, National Director, Office of Job Corps, ETA, U.S. Department of Labor, 200 Constitution Avenue NW., Room N-4463, Washington, DC 20210; Telephone (202) 693-3000 (this is not a toll-free number). Individuals with hearing or speech impairments may access the telephone number above via TTY by calling the toll-free Federal Information Relay Service at (877) 889-5627 (TTY/TDD).

SUPPLEMENTARY INFORMATION:

I. Background on the Job Corps Program and Center Closures

Established in 1964, Job Corps is a national program administered by ETA in the Department. It is the nation's largest federally-funded, primarily residential training program for at-risk youth, ages 16 to 24. Through 125 centers in 50 states, Puerto Rico, and the District of Columbia, Job Corps seeks to change lives through education and job training for in-demand careers. Job Corps serves at-risk young people who are overcoming major challenges, which can include deep poverty, homelessness, or multiple foster care placements, by providing them with the academic, career technical, and employability skills to enter the workforce, enroll in post-secondary education, or enlist in the military. The program represents the core American value that no matter who you are or where you come from, you should have the opportunity to succeed.

Large and small businesses, nonprofit organizations, and Native American tribes manage and operate 99 of the Job Corps centers through contractual agreements with the Department of Labor, which are awarded pursuant to federal procurement rules. Twenty-six Civilian Conservation Centers (CCCs) are operated through an interagency agreement with the U.S. Department of Agriculture (USDA). Job Corps receives annual funding to operate centers, administer the program, and build, maintain, expand, or upgrade a limited number of new and existing facilities.

II. Closure Criteria

The Department is continuously taking steps to ensure that Job Corps' resources are used to deliver the best possible results for students. As part of these ongoing efforts, the Department may determine that closing a center will allow Job Corps to more effectively serve its students. Since 2014, the Department has closed two centers.

A. The Criteria for Proposing a Center for Closure

The Workforce Innovation and Opportunity Act (WIOA), which became effective on July 1, 2015, directs DOL to “establish written criteria that the Secretary shall use to determine when a Job Corps center supported under this part is to be closed and how to carry out such closure[.]” 29 U.S.C. 3211(c)(1). The Department has published three criteria upon which it may propose to close a center:

1. A methodology for selecting a center for closure based on its chronic low performance, first described in an August 2014 Federal Register Notice (FRN) (79 FR 51198), and updated in the March 9, 2016, FRN (81 FR 12529);

2. An agreement between the Secretaries of Labor and Agriculture to close a CCC, as described in the March 9, 2016, FRN; and

3. An evaluation of the effort required to provide a high-quality education and training program at the center, as described in the March 9, 2016, FRN.

Closure may be based on any one of the three criteria, and a single criterion may be applied independently of the others. Thus, while a center may qualify for closure under more than one criterion, DOL may choose to rely on only one criterion when deciding to propose a center for closure. These criteria have been previously established; therefore, the Department does not seek comments on these criteria in response to this Notice.

Prior to making a decision to propose a center's closure, the Department also applies the Additional Considerations first discussed in the August 2014 notice and described below.

B. Additional Considerations for Center Closure

As described in the March 9, 2016, FRN, after applying any of the three closure criterion identified above, the Department will consider the following factors, as appropriate, when deciding whether it should propose a center for closure:

1. Job Corps Services for Residents in Each State, Puerto Rico, and the District of Columbia

The Department is committed to providing services in a broad geographic area. When deciding to propose a center for closure, DOL will ensure that it maintains at least one Job Corps center in each state, the Commonwealth of Puerto Rico, and the District of Columbia. The program will also take into consideration whether a center's closure would have a disproportionate impact on the training opportunities for students in any one state. Additionally, Job Corps is committed to ensuring that a state's population, especially eligible young people who could benefit from participating in the program, has adequate exposure to Job Corps' opportunities and services. Accordingly, in applying the criteria, DOL will ensure that it does not too rapidly reduce Job Corps' presence in any one state.

2. Sufficiency of Data Available To Evaluate Center Performance

When proposing closure for chronic low performance, the Department will not consider any center for which it does not have sufficient data to evaluate that center's performance. Because this Notice does not propose a closure based on performance, this consideration does not apply to the proposed closures discussed below.

3. Indication of Significant Recent Performance Improvement

When applying the performance-based methodology, the Department will consider evidence of recent performance improvement. Therefore, a center will be removed from closure consideration based on performance-based closure criteria if it is performing in the top half of centers in the most recent full year of performance data. Again, because this notice does not propose a closure based on performance, this consideration does not apply to the proposed closures discussed below.

4. Job Corps' Commitment to Diversity

Job Corps currently serves a diverse student population and remains committed to serving disadvantaged youth from all backgrounds. In making final closure decisions under any of the three criteria identified in Section A above, we will consider whether a center's closure would result in a significant reduction in student diversity within the overall Job Corps system.

III. Proposal To Close the Homestead Job Corps Center

For the reasons discussed below, Job Corps proposes to close the Homestead Job Corps Center under the third criterion—an evaluation of the effort required to provide a high-quality education and training program at the center, as described in the March 9, 2016, FRN.

Some centers, for a variety of reasons, face more difficult challenges than others in providing a safe, secure environment where participants can receive high-quality education and training. Some challenges develop over time, while others arise more rapidly. Challenges may involve the condition of the facility, its proximity to relevant job markets, the ability of the center to attract students, the impact of one-time events, or a host of other factors. Addressing these challenges may require sustained efforts that involve significant programmatic, staff, capital, organizational, and/or other investments and resources, and sometimes these challenges continue regardless of the contractor or entity operating the center. Even with such a commitment, it may be difficult to achieve positive outcomes for students.

In such a situation, Job Corps will carefully assess the following:

1. The ongoing needs of the center against those of the program overall.

2. The effort required to provide and maintain a high-quality, safe, and productive living and learning environment.

3. Whether that effort is likely to ultimately produce an outcome that contributes to the program's overall strength and integrity.

After reviewing all relevant information, the Department may decide to propose a center for closure.

Following an evaluation of continuing center operations using the framework outlined above, the Department proposes to close the Homestead Job Corps Center. The Homestead Job Corps Center has been inactive since September 2015, after the homicide of a Job Corps student in an area adjacent to campus.

The tragedy highlighted design problems at the facility which negatively affected the safety and security of the center. Homestead has operated on the grounds of a former Air Force base, with students trained and housed across a 40-acre campus layout with a public street running through the middle, dividing the campus into two separate and distinct parts. A review of Homestead's physical plant and campus layout conducted by Job Corps' Engineering Support Contractor after the suspension of operations concluded that the inefficient layout, as well as the lack of any barrier around the campus periphery, resulted in unsafe center conditions that would have to be addressed before DOL could reactivate the center. The best and most cost effective approach for creating a safe, secure environment at the center for students and staff would be to consolidate the center onto a unified, smaller, 30-acre campus layout with a surrounding fence. However, even these necessary improvements could cost as much as $13 million, a significant portion of the $75 million Job Corps has been appropriated annually for construction and repairs at all 125 Job Corps centers in recent years.

The Department has concluded that investing so much in remaking Homestead's campus is not the best use of limited resources. More than 25 percent of Job Corps' more than 4,000 buildings are over 50 years old, leading to a repair and construction backlog of more than $470 million. Spending nearly one-fifth of the program's construction budget to alter this site's grounds and facilities and remedy its presently identified deficiencies would significantly impact Job Corps' ability to make needed repairs and improvements at other centers. This is not a prudent use of the Department's resources, particularly given the successful maintenance of opportunities at the other four centers in Florida and the Southeast generally. In order to provide functional, safe, and secure campuses for as many students as possible given the limited resources available, DOL has determined students in Florida and across the country will be better served if Job Corps' construction and repair budget—and the time, personnel, and effort required to administer the use of these funds—is allotted across the entire system to improve the conditions of as many centers and as many students as possible.

Additionally, the events leading to the suspension of activities at the Homestead campus may for the foreseeable future serve as a significant disincentive for students to attend the center, negatively impacting its operations by reducing the number of students on center and reducing its cost effectiveness. Job Corps is intensely focused on safety and security, and is presently working to demonstrate to potential and enrolled students and their families that Job Corps is a safe and welcoming place. As the criminal case involving the murder continues to move through the criminal justice system, Job Corps operations at Homestead will continue to face intense scrutiny, complicating and hindering the process of recruiting, educating, and training at-risk students at this site.

Despite the change in the Homestead Center's operating status, Job Corps has maintained the same capacity to serve students from Florida since operations were temporarily suspended. In the wake of the Homestead tragedy, Job Corps transferred 189 students to other centers, primarily in Florida and the Southeast region, as it reassessed the safety and security of the property. The Job Corps program has robust capacity in Florida, a state where there are four other centers, including the Miami Job Corps Center less than 50 miles away from the Homestead campus, which helped absorb transferred students.

After studying (1) the ongoing needs of the center against those of the program overall, (2) the effort needed to provide and maintain a high-quality, safe, and productive living and learning environment, and (3) whether that effort is likely to ultimately produce an outcome that contributes to the program's overall strength and integrity, the Department concluded that closing the Homestead Job Corps Center is in the best interest of the program.

After completing this evaluation, the Department then applied the relevant additional considerations outlined in the March 2016 FRN and discussed above in Section II.B and determined that these considerations did not preclude closure of the Homestead Job Corps Center.

The Department now requests public comments on its proposal to close the Homestead Job Corps Center.

IV. The Process for Closing Job Corps Centers Under the Workforce Innovation and Opportunity Act (WIOA)

The Department's process for closing Job Corps centers will follow the requirements of section 159(j) of the WIOA, which include the following:

• The proposed decision to close a particular center is announced in advance to the general public through publication in the Federal Register or other appropriate means;

• A reasonable comment period, not to exceed 30 days, is established for interested individuals to submit written comments to the Secretary; and

• The Member of Congress who represents the district in which such center is located is notified within a reasonable period of time in advance of any final decision to close the center.

This Notice serves as the public announcement of the decision to close the Homestead Job Corps Center. The Department is providing a 30-day period—the maximum amount of time allowed for comment under WIOA sec. 159(j)—for interested individuals to submit written comments on the proposed decision to close this center.

Byron Zuidema,
Deputy Assistant Secretary for Employment and Training.

[FR Doc. 2017-16281 Filed 8-1-17; 8:45 am]

BILLING CODE 4510-FT-P